DEPARTMENT OF THE INTERIOR

Bureau of Land Management

[LLNMP00000 L13110000.PP0000 15XL1109PF]

Notice of Public Meeting, Pecos District Resource Advisory Council Meeting, Lesser Prairie-Chicken Habitat Preservation Area of Critical Environmental Concern (LPC ACEC) Livestock Grazing Subcommittee New Mexico

AGENCY: Bureau of Land Management, Interior.

ACTION: Notice of Public Meeting.

SUMMARY: In accordance with the Federal Land Policy and Management Act and the Federal Advisory Committee Act, Bureau of Land Management's (BLM) Pecos District Resource Advisory Council's (RAC) Lesser Prairie-Chicken (LPC) Habitat Preservation Area of Critical Environmental Concerns (ACEC) Livestock Grazing Subcommittee will meet as indicated below.

DATES: The RAC LPC ACEC Subcommittee will meet on November 4, 2014, at the Milnesand Community Center, 4605 NM 206, Milnesand, New Mexico 88125, at 9 a.m. to tour the Nature Conservancy's Milnesand Prairie Preserve and the Grasslands Charitable Foundation's Weaver Ranch. The public may send written comments to the Subcommittee at the BLM Pecos District Office, 2909 West 2nd Street, Roswell, New Mexico 88201.

FOR FURTHER INFORMATION CONTACT: Adam Ortega, Range Management Specialist, Roswell Field Office, Bureau of Land Management, 2909 West 2nd Street, Roswell, New Mexico 88201, 575-627-0204. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Pecos District RAC elected to create a subcommittee to advise the Secretary of the Interior, through the BLM, on zing plan and LPC ACEC. Planned agenda items management issues associated with the LPC ACEC. Planned agenda items include: A tour of the cow/calf operation on the Milnesand Prairie Preserve, and the restored native grasslands on the Weaver Ranch.

Mary A. Uhl,
Acting Deputy State Director, Lands and Resources.

[FR Doc. 2014-24570 Filed 10-15-14; 8:45 am]

BILLING CODE 4310-FB-P